DEPARTMENT OF EDUCATION

Tests Determined To Be Suitable for Use in the National Reporting System for Adult Education; Correction

AGENCY: Office of Career, Technical, and Adult Education, Department of Education.

ACTION: Notice; correction.

SUMMARY: On July 13, 2023, the Department of Education (Department) published a notice announcing tests, test forms, and delivery formats that the Secretary determined to be suitable for use in the National Reporting System for Adult Education (NRS). This notice corrects the name of one test. All other information in the notice remains the same.

DATES: This correction is applicable August 24, 2023.

FOR FURTHER INFORMATION CONTACT: John LeMaster, Department of Education, 400 Maryland Avenue SW, Washington, DC 20202. Telephone: (202) 245-6218. Email: John.LeMaster@ed.gov.

If you are deaf, hard of hearing, or have a speech disability and wish to access telecommunications relay services, please dial 7-1-1.

SUPPLEMENTARY INFORMATION: On July 13, 2023, the Department published a notice announcing tests, test forms, and delivery formats that the Secretary determined to be suitable for use in the NRS (88 FR 44784). We are correcting the name of one test listed in the July 13, 2023, notice from “Comprehensive Adult Student Assessment System (CASAS) Math GOALS Series” to “Comprehensive Adult Student Assessment System (CASAS) Math GOALS 2.”

Corrections

In FR Doc. No. 2023-14825, appearing on pages 44784-44786 of the Federal Register of July 13, 2023, we make the following correction:

On page 44785, in the third column, beginning in the sixth line, we remove “Comprehensive Adult Student Assessment System (CASAS) Math GOALS Series” and, in its place, add “Comprehensive Adult Student Assessment System (CASAS) Math GOALS 2”.

Program Authority: 29 U.S.C. 3292.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Amy Loyd,
Assistant Secretary for Career, Technical, and Adult Education.

[FR Doc. 2023-18200 Filed 8-23-23; 8:45 am]

BILLING CODE 4000-01-P